DEPARTMENT OF TRANSPORTATION

Federal Motor Carrier Safety Administration

[FMCSA Docket No. FMCSA-2006-25756]

Commercial Driver's License (CDL) Standards; Volvo Trucks North America, Renewal of Exemption

AGENCY: Federal Motor Carrier Safety Administration (FMCSA), DOT.

ACTION: Notice of final disposition.

SUMMARY: FMCSA previously announced its decision to renew Volvo Trucks North America's (Volvo) exemption for eight of its drivers to enable them to test-drive commercial motor vehicles (CMVs) in the United States without a commercial driver's license (CDL) issued by one of the States. FMCSA requested comment on the renewal of the exemption, but received no comments.

DATES: This exemption is effective from February 4, 2008 through February 4, 2010.

FOR FURTHER INFORMATION CONTACT: Mr. Richard Clemente, FMCSA Driver and Carrier Operations Division; Office of Bus and Truck Standards and Operations; Telephone: 202-366-4325. e-mail: MCPSD@dot.gov.

SUPPLEMENTARY INFORMATION:

Background

Under 49 U.S.C. 31315 and 31136(e), FMCSA may grant or renew an exemption from the CDL requirements in 49 CFR 383.23 for a maximum two-year period if it finds “such exemption would likely achieve a level of safety that is equivalent to, or greater than, the level that would be achieved absent such exemption.” FMCSA evaluated Volvo's application on its merits and decided to grant the renewal of the exemption for eight of Volvo's engineers and technicians for a two-year period, effective February 4, 2008, as previously announced in the Federal Register (73 FR 6552, February 4, 2008).

Comments

The FMCSA received no response to its request for public comments published in the Federal Register on February 4, 2008 (73 FR 6552).

Terms and Conditions for the Exemption

Based upon its evaluation of the application for an exemption, FMCSA granted Volvo a renewal of the exemption from the Federal CDL requirement in 49 CFR 383.23 for eight drivers (Christer Milding, Jonas Gustafsson, Sten-Ake Sandberg, Daniel Kanebratt, Urban Walter, Fredrik Wattwil, Jonas Nilsson, and Bjorn Nyman) to test-drive CMVs within the U.S., subject to the following terms and conditions: (1) That these drivers are subject to drug and alcohol testing regulations, including testing, as provided in 49 CFR part 382, (2) that these drivers are subject to the same driver disqualification rules under 49 CFR parts 383 and 391 that apply to other CMV drivers in the U.S., (3) that these drivers keep a copy of the exemption in the vehicle they are driving at all times, (4) that Volvo notify FMCSA in writing of any accident, as defined in 49 CFR 390.5, involving one of the exempted drivers, and (5) that Volvo notify FMCSA in writing if any driver is convicted of a disqualifying offense described in section 383.51 or 391.15 of the FMCSRs.

The exemption will be revoked if: (1) The drivers for Volvo fail to comply with the terms and conditions of the exemption; (2) the exemption has resulted in a lower level of safety than was maintained before it was granted; or (3) continuation of the exemption would not be consistent with the goals and objectives of 49 U.S.C. 31315 and 31136.

Issued on: August 27, 2008.
Larry W. Minor,
Associate Administrator for Policy and Program Development.

[FR Doc. E8-20511 Filed 9-3-08; 8:45 am]

BILLING CODE 4910-EX-P